FEDERAL COMMUNICATIONS COMMISSION

[CC Docket No. 96-45; DA 03-25]

Wireline Competition Bureau Seeks Comment on Updating Line Counts and Other Limited Information Used in Calculating High-Cost Universal Service Support for Non-Rural Carriers

AGENCY: Federal Communications Commission.

ACTION: Notice; solicitation of comments.

SUMMARY: In this document, the Wireline Competition Bureau sought comment on how line count and other discrete input values should be updated in the universal service cost model used to estimate non-rural carrier's forward-looking economic costs of providing the services supported by the federal universal service high-cost support mechanism.

DATES: Comments are due on or before March 3, 2003. Reply comments are due on or before March 12, 2003.

ADDRESSES: Federal Communications Commission, 445 Twelfth Street, SW., Washington, DC 20554.

FOR FURTHER INFORMATION CONTACT: Katie King or Thomas Buckley, Attorneys, Wireline Competition Bureau, Telecommunications Access Policy Division, (202) 418-7400, TTY (202) 418-0484.

SUPPLEMENTARY INFORMATION: This is a summary of the Commission's Public Notice, CC Docket No. 96-45, released January 7, 2003. The Wireline Competition Bureau (Bureau) released an order adopting certain modifications to the forward-looking cost model for determining high-cost support for non-rural carriers. In particular, the Bureau incorporated specific technical improvements and translated a portion of the model from Turbo-Pascal to Delphi computer language. In that order, the Bureau also deferred using this revised version of the model to determine support amounts until the effective date of a Commission order in the separate proceeding addressing the non-rural high-cost support methodology adopted in the Ninth Report and Order, 64 FR 67416, December 1, 1999 which was remanded to the Commission by the United States Court of Appeals for the Tenth Circuit. The Bureau now seeks comment in this Public Notice on how line count and other discrete input values should be updated for purposes of determining support upon implementation of the revised version of the model.

On October 21, 1999, the Commission adopted two orders completing implementation plans for a new high-cost universal service support mechanism for non-rural carriers. The mechanism provides support based on the forward-looking economic cost of providing services eligible for support, as determined by the Commission's universal service cost model. The Commission also emphasized the importance of updating the inputs used in the cost model as technology and other conditions change. In the 2001 and 2002 Line Counts Update Orders, 65 FR 81759, December 27, 2000 and 67 FR 3118, January 23, 2002, the Bureau updated the cost model with year-end line counts and other discrete input values for purposes of estimating forward-looking costs and determining support for the years 2001 and 2002, respectively.

Consistent with past precedent, the Bureau seeks comment on using year-end 2001 line counts filed July 31, 2002, as input values for purposes of estimating average forward-looking costs and determining support for non-rural carriers upon implementation of the Commission decision on the Tenth Circuit remand. In addition, the Bureau seeks comment on whether to continue to adjust high-cost support amounts each quarter using wire center line count data reported by carriers each quarter.

When line counts were updated in the past, the Bureau also used information obtained from the 1999 Data Request to allocate switched lines among the classes of switched service and to allocate special access lines to the appropriate wire centers. The Bureau seeks comment on continuing this line count disaggregation methodology. The Bureau also seeks comment on whether to apply the method used in past decisions for matching line count data to wire centers used in the model for purposes of calculating support.

Finally, in the 2002 Line Counts Update Order, the Bureau also updated the model's input values with annually collected ARMIS data and traffic parameter data available from the National Exchange Carrier Association to estimate investment in general support facilities (GSF) and switching costs. The Bureau seeks comment on whether to update the tables in the model used to calculate GSF investment and switching costs using the same methodology employed in the 2002 Line Counts Update Order.

Pursuant to § 1.415 and 1.419 of the Commission's rules, interested parties may file comments as follows: comments are due on or before March 3, 2003, and reply comments are due on or before March 12, 2003. Comments may be filed using the Commission's Electronic Comment Filing System (ECFS) or by filing paper copies. See Electronic Filing of Documents in Rulemaking Proceedings, 63 FR 24121 (1998).

Comments filed through the ECFS can be sent as an electronic file via the Internet to http://www.fc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form<get form<your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal service first-class mail, Express Mail, and Priority Mail should be addressed to the Commission's Secretary, Marlene H. Dortch, Office of the Secretary, Federal Communications Commission.

Parties also must send three paper copies of their filing to Sheryl Todd, Telecommunications Access Policy Division, Wireline Competition Bureau, Federal Communications Commission, 445 12th Street, SW., Room 5-B540, Washington, DC 20554. In addition, commenters must send diskette copies to the Commission's copy contractor, Qualex International, Portals II, 445 12th Street, SW., Room CY-B402, Washington, DC 20554.

Pursuant to § 1.1206 of the Commission's rules, 47 CFR 1.1206, this proceeding will be conducted as a permit-but-disclose proceeding in which ex parte communications are permitted subject to disclosure.

Federal Communications Commission.
Eric N. Einhorn,
Acting Division Chief, Wireline Competition Bureau Telecommunications Access Policy Division.

[FR Doc. 03-3158 Filed 2-7-03; 8:45 am]

BILLING CODE 6712-01-P